DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census Coverage Measurement, Person Followup Interview and Person Followup Reinterview Operations.

Form Number(s): DD-1301, DD-1302.2(PFU-RI).

Agency Approval Number: None.

Type of Request: New collection.

Burden: 807 hours.

Number of Respondents: 2,420.

Avg Hours per Response: 20 minutes.

Needs and Uses: In preparation for the 2010 Census, the U.S. Census Bureau requests authorization from the Office of Management and Budget to conduct the Person Followup (PFU) Interview and the Person Followup Reinterview (PFURI) as part of the 2006 Census Coverage Measurement (CCM) test. The CCM test, which includes the CCM Person Interview (PI), PI Reinterview, person matching, PFU and PFURI operations, is to occur during the 2006 Census Test to evaluate new approaches that would improve measures of coverage error for persons. The 2006 CCM test will occur in Travis County, Texas; and on the Cheyenne River Reservation in South Dakota.

The 2006 CCM test will be comprised of two overlapping samples, a population sample (P sample) and a sample of census records. The P sample will be obtained by independently rostering persons in housing units within the CCM sampled block clusters. The independent roster is obtained during the CCM PI, the results of which will be matched to census enumerations in the sample blocks, in surrounding blocks and across the entire site. A separate OMB package was previously prepared for the PI operations. After the CCM PI and matching operations have taken place, some cases will receive the CCM PFU interview. Generally, these will be cases where additional information is needed to determine residence status or where inconsistencies were observed during the matching operations. We also will conduct a quality control operation of the PFU called the Person Followup Reinterview (PFURI).

The purpose of the 2006 CCM test is not to measure the coverage of the 2006 Census Test per se, but rather to test ways of improving previous coverage measurement methods. In particular, the focus of the 2006 CCM test is to test improved matching operations and data collection efforts designed to obtain more accurate information about where a person should have been enumerated according to Census residence rules. This focus is motivated by: (1) Problems encountered with coverage measurement in 2000 in determining a person's residence (relative to Census residence rules), (2) the significant number of duplicate enumerations in Census 2000, and (3) expanded goals for coverage measurement in 2010. The latter refers to our objective of producing, for the first time, separate estimates of coverage error components—omissions and erroneous enumerations including duplicates. The data collection and matching methodologies for previous coverage measurement programs were designed primarily to measure net coverage error, which reflects the difference between omissions and erroneous enumerations (see Definition of Terms). In order to produce separate estimates of these coverage error components, we need to develop and test changes to our data collection and matching methods. In particular, the 2006 CCM efforts will focus on ways to obtain better information about addresses where people should have, and could have, been enumerated during the census.

An additional objective for the 2006 Census Test is to determine if we can conduct coverage measurement interviews before all census data collection is complete, and do so without contaminating the census and adversely affecting coverage measurement. There are several operational and data quality advantages of conducting coverage measurement interviews as close to census day as possible, but we do not want to do this if it will seriously affect measurement of coverage error.

A main goal of the 2006 CCM test is to test our underlying assumption that our enhanced data collection procedures adequately determine a person's residence status. In order to move towards attaining this goal in 2010, we must learn more about the usefulness of changes made to the PFU questionnaire since 2000. Since the 2006 CCM test will feature many new matching procedures, we also hope to gain a better understanding of how the new matching operations affect the PFU universe.

As part of the 2006 CCM PFU operations, we will also conduct the quality control operation PFURI. For this operation a sample of the CCM PFU cases will be selected for a reinterview. The purpose of the reinterview is to determine if the source of the CCM PFU data (e.g., a household member; a specific proxy respondent) can be confirmed.

Affected Public: Individuals or households.

Frequency: One time.

Respondent's Obligation: Mandatory.

Legal Authority: 13 U.S.C. 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: May 11, 2006.
Madeleine Clayton,
Management Analyst, Office of the Chief Information Officer.

[FR Doc. E6-7420 Filed 5-15-06; 8:45 am]

BILLING CODE 3510-07-P